Title 3—

The President

Memorandum of October 20, 2003

Certification Concerning U.S. Participation in the U.N. Mission in Liberia Consistent With Section 2005 of the American Servicemembers' Protection Act

Memorandum for the Secretary of State

Consistent with section 2005 of the American Servicemembers' Protection Act of 2002 (Public Law 107-206; 22 U.S.C. 7421 et seq.), concerning the participation of members of the Armed Forces of the United States in certain United Nations peacekeeping and peace enforcement operations, I hereby certify that members of the U.S. Armed Forces participating in the United Nations Mission in Liberia (UNMIL) are without risk of criminal prosecution or other assertion of jurisdiction by the International Criminal Court because, in authorizing the operation, the United Nations Security Council (in Resolutions 1497 (2003) and 1509 (2003)) has provided for the exclusive jurisdiction of the contributing State for all acts or omissions arising out of or related to UNMIL, unless such exclusive jurisdiction is expressly waived.

You are authorized and directed to submit this certification to the Congress, and to arrange for its publication in the Federal Register.

B

THE WHITE HOUSE,

Washington, October 20, 2003.

[FR Doc. 03-28358

Filed 11-7-03; 8:45 am]

Billing code 4710-10-P